DEPARTMENT OF COMMERCE

National Oceanic and Atmospheric Administration

[RTID 0648-XB326]

Endangered and Threatened Species; Take of Anadromous Fish

AGENCY: National Marine Fisheries Service (NMFS), National Oceanic and Atmospheric Administration (NOAA), Commerce.

ACTION: Notice of receipt of one enhancement permit application and request for comment.

SUMMARY: Notice is hereby given that NMFS has received one permit application submitted by California Department of Fish and Wildlife (CDFW) to enhance the propagation and survival of species listed under the Endangered Species Act (ESA) of 1973, as amended, for a 5-year period. This document serves to notify the public of the availability of the permit application for review and comment, prior to a decision by NMFS whether to issue the permit.

DATES: Comments or requests for a public hearing on the application must be received at the appropriate address (see ADDRESSES) no later than 5 p.m. Pacific standard time on September 13, 2021.

ADDRESSES: The permit application may be viewed online at: https://apps.nmfs.noaa.gov/preview/preview_open_for_comment.cfm. Written comments on the application should be submitted to the NMFS California Central Valley Office, 650 Capitol Mall, Suite 5-100, Sacramento, CA 95814. Comments may also be submitted by email to amanda.cranford@noaa.gov (include the permit number in the subject line of the email).

FOR FURTHER INFORMATION CONTACT: Amanda Cranford, Sacramento, CA (Phone: 916-930-3706; Email: amanda.cranford@noaa.gov). Permit application instructions are available from the address above, or online at https://apps.nmfs.noaa.gov.

SUPPLEMENTARY INFORMATION:

ESA-Listed Species Covered in This Notice

Chinook salmon (Oncorhynchus tshawytscha): Threatened, naturally produced and hatchery propagated Sacramento River winter-run;

Chinook salmon (Oncorhynchus tshawytscha): Threatened, naturally produced and hatchery-propagated Central Valley (CV) spring-run;

Steelhead (O. mykiss): Threatened, naturally produced and artificially propagated California Central Valley (CCV).

North American green sturgeon (Acipenser medirostris): Threatened, naturally produced southern distinct population segment (sDPS).

Background

Permit 18181-4R

CDFW is seeking to renew an enhancement permit under section 10(a)(1)(A) of the ESA for a period of 5 years that would allow take of both adult and juvenile Sacramento River winter-run Chinook salmon, CV spring-run Chinook salmon, CCV steelhead, and sDPS North American green sturgeon in the Sacramento River and its tributaries. This permit renewal would cover four monitoring and rescue efforts carried out by CDFW: (1) Juvenile emigration monitoring, (2) adult trapping for the Steelhead Monitoring Program, (3) Upper Sacramento River restoration site monitoring, and (4) fish salvage and rescue operations.

Each project has its own objectives. The Juvenile Emigration Monitoring will take place at Tisdale Weir, Knights Landing, the Feather River High Flow Channel, and the Delta Entry sites, with the goals to monitor juvenile salmonid outmigration in real time, provide summaries of timing, abundance, and size distribution, provide timing information to water agencies for better management decisions, and evaluate how environmental conditions (flow, temperature, turbidity) affect downstream movement. The objectives of the Central Valley Steelhead Monitoring will be conducted to estimate the steelhead population abundance, examine trends in abundance, and identify spatial distribution over time. The Upper Sacramento River Restoration Site Monitoring aims to evaluate the outcome of the Central Valley Project Improvement Act Section 3406(b)(13) gravel augmentation and restoration projects through documentation of spawning activity, relative abundance of juvenile salmonids using the restored habitat, habitat attributes and quantities in restored sites, and habitat conditions and fish presence in control and pre- and post-construction sites. Efforts associated with the Central Valley Fish Rescues will involve the collection, tagging, and relocation of entrained listed salmonids and sDPS green sturgeon at the fish collection facility at Wallace Weir, the Colusa Basin Drainage Canal, behind Fremont and Tisdale weirs, the Sacramento River, Deer Creek, Mill Creek, Antelope Creek, and various urban streams. The rescue program also assesses the magnitude of stranding and aims to document conditions resulting in high levels of stranding. CDFW staff will also monitor winter-run Chinook salmon redds that are at risk of being dewatered. In the event that a redd is likely to be dewatered, CDFW staff may physically modify the redd by hand to prevent complete dewatering and increase the likelihood of survival.

Under the various studies, juvenile salmonids and smolts would be observed via snorkel and video surveys and captured using rotary screw traps and beach seines. In addition, juvenile salmonids would be handled: Anesthetized, measured, checked for marks or tags, tagged (acoustic tags for spring-run Chinook salmon, passive integrated transponder (PIT) tags for steelhead, and elastomer tags for salmonids used during rotary screw trap efficiency trials), sampled for tissues, and released. A subsample of hatchery-origin (adipose fin clipped) winter-run Chinook salmon and spring-run Chinook salmon juveniles and smolts would be sacrificed for coded wire tag (CWT) retrieval and analysis. In the case of rescues and relocations, fish may be collected and transported (either via foot or transport truck, depending on the distance to the release location) to more suitable habitat prior to release.

Adult salmonids would be observed via snorkel, video, or spawning surveys and captured using beach seines, fish weirs, and fyke traps. Adult steelhead may also be captured in rotary screw traps. In addition, adult salmonids would be handled as follows: anesthetized, measured, checked for marks or tags, tagged (floy tags for all adult salmonids, as well as PIT tags for steelhead, and acoustic tags for both spring- and winter-run Chinook salmon), sampled for tissues, and released. Tissues would be collected from any carcasses encountered.

Juvenile, subadult, and adult green sturgeon would be captured via hoop nets and fyke traps, anesthetized, tissue sampled, tagged (PIT or acoustic), and released. Additionally, juvenile green sturgeon may be captured in rotary screw traps and adults may be encountered during monitoring at weirs. Subadult and adult green sturgeon would also receive floy tags. Adult sturgeon may also be collected and transported live to more suitable habitat during rescue activities.

With the exception of the juvenile salmon CWT retrieval (above), the researchers are not proposing to kill any of the fish being captured, but a small number of fish may be incidentally killed as an inadvertent result of these activities. However, fish captured and relocated as part of the fish rescues would likely perish due to low flows and dissolved oxygen, coupled with high water temperatures, if it were not for this project.

The proposed projects could impact ESA-listed species by delaying migration, resulting in stress, or indirect mortality or indirect non-lethal effects as a result of stress, physical harm during insertion of tags, and/or susceptibility to predation upon displacement at release. These effects will be minimized by frequent (at least daily) trap checks and taking all possible measures to expedite the process of capturing, tagging, and releasing adult entrained fish. Anesthetization will follow strict guidelines and use the least amount of sedative necessary. Unintentional mortality of juvenile fish can occur during rotary screw trapping and will be minimized through a reduction in sampling effort or through increased checking/servicing of rotary-screw traps.

Authority

Enhancement permits are issued in accordance with section 10(a)(1)(A) of the ESA (16 U.S.C. 1531 et seq.) and regulations governing listed fish and wildlife permits (50 CFR part 222). NMFS issues permits based on findings that such permits: (1) Are applied for in good faith; (2) if granted and exercised, would not operate to the disadvantage of the listed species that are the subject of the permit; (3) are consistent with the purposes and policies of section 2 of the ESA; (4) further a bona fide and necessary or desirable scientific purpose or enhance the propagation or survival of the endangered species, taking into account the benefits anticipated to be derived on behalf of the endangered species; and additional issuance criteria as listed at 50 CFR 222.308(c)(5-12). The authority to take listed species is subject to conditions set forth in the permit.

Anyone requesting a hearing on an application listed in this notice should set out the specific reasons why a hearing on that application would be appropriate (see ADDRESSES). Such hearings are held at the discretion of the Assistant Administrator for Fisheries, NMFS.

Public Comments Solicited

NMFS invites the public to comment on the section 10(a)(1)(A) enhancement permit application during a 30-day public comment period beginning on the date of this notice. This notice is provided pursuant to section 10(c) of the ESA (16 U.S.C. 1529(c)). All comments and materials received, including names and addresses, will become part of the administrative record and may be released to the public. We provide this notice in order to allow the public, agencies, or other organizations to review and comment on these documents.

Next Steps

NMFS will evaluate the permit application, associated documents, and comments submitted to determine whether the applications meet the requirements of section 10(a)(1)(A) of the ESA and the applicable Federal regulations. The final permit decisions will not be made until after the end of the 30-day public comment period and after NMFS has fully considered all relevant comments received. NMFS will publish notice of its final action in the Federal Register.

Dated: August 10, 2021.
Angela Somma,
Chief, Endangered Species Division, Office of Protected Resources, National Marine Fisheries Service.

[FR Doc. 2021-17401 Filed 8-12-21; 8:45 am]

BILLING CODE 3510-22-P